DEPARTMENT OF THE INTERIOR

Fish and Wildlife Service

50 CFR Part 32

Hunting and Fishing

CFR Correction

In Title 50 of the Code of Federal Regulations, parts 18 to 199, revised as of October 1, 2004, in part 32, make the following corrections:

1. In § 32.24, on page 211, remove the first heading for “San Pablo Bay National Wildlife Refuge”.

2. In § 32.28, on page 219, under “St. Vincent National Wildlife Refuge”, the first paragraph “C. Big Game Hunting” is removed.

3. In § 32.29, on page 222, under “Blackbeard Island National Wildlife Refuge” paragraph D is added after paragraph C.17, and on page 226, under “Savannah National Wildlife Refuge” paragraph D is added after paragraph C.10, to read as follows:

§ 32.29 Georgia.

* * * * *

Blackbeard Island National Wildlife Refuge

* * * * *

D. Sport Fishing. Fishing is permitted on designated areas of the refuge subject to the following conditions:

1. Anglers may fish in freshwater year-round from sunrise to sunset, except during managed deer hunts.

2. Only nonmotorized boats and boats with electric motors are permitted.

3. The use of live minnows as bait is not permitted.

4. Boats may not be left on the refuge overnight.

5. Anglers may bank fish into estuarine waters daily from sunrise to sunset only.

* * * * *

Savannah National Wildlife Refuge

* * * * *

D. Sport Fishing. We allow fishing on designated areas of the refuge subject to the following conditions:

1. Anglers may fish in refuge impoundments and canals from March 1 through November 30 annually.

2. Anglers may fish in Kingfisher Pond year round.

3. We allow fishing from sunrise to sunset.

4. Anglers may bank fish year round in the canals adjacent to the wildlife drive.

5. Boats may not be left on the refuge overnight.

6. Anglers may only use non-motorized boats and boats with electric motors within impounded waters.

* * * * *

4. In § 32.34, on page 236, under “Neal Smith National Wildlife Refuge” in the second column, the second paragraph B.1 through 3 and paragraph C is removed.

5. In § 32.40, on page 270, the entry for “Great Meadows National Wildlife Refuge” is added after the introductory paragraph, and on page 272, under “Parker River National Wildlife Refuge” paragraph D is added after paragraph C.11 to read as follows:

§ 32.40 Massachusetts.

* * * * *

Great Meadows National Wildlife Refuge

A. Hunting of Migratory Game Birds. [Reserved]

B. Upland Game Hunting. [Reserved]

C. Big Game Hunting. [Reserved]

D. Sport Fishing. Fishing is permitted in designated areas of the refuge subject to the following condition:

1. Fishing is permitted along the main channel of the Sudbury River, Concord River and along designated banks of Heard Pond with the following exception: Fishing is not permitted within refuge impoundments.

2. Only foot access is permitted.

* * * * *

Parker River National Wildlife Refuge

* * * * *

D. Sport Fishing. Saltwater fishing is permitted on designated areas of the refuge subject to the following conditions:

1. We allow saltwater fishing on the ocean beach and the surrounding waters of the Broad Sound.

2. A permit is required for night fishing and for the use of over-the-sand surf-fishing vehicles.

* * * * *

6. In § 32.46, on page 297, under “North Platte National Wildlife Refuge” the second paragraph B.“ Upland Game Hunting. [Reserved]” is removed.

7. In § 32.66, on page 362, under “Rappahannock River Valley National Wildlife Refuge” after paragraph C.10 add text to paragraph D to read as follows:

§ 32.66 Virginia.

* * * * *

Rappahannock River Valley National Wildlife Refuge

* * * * *

D. Sport Fishing. We allow fishing on designated areas of Wilna Pond in Richmond County subject to the following conditions:

1. As we implement the new fishing program at Wilna Pond, we intend to be open on a daily basis, legal sunrise to legal sunset. If unexpected law enforcement issues arise, we may restrict hours of access for fishing.

2. From March 15 through June 30, we allow fishing from the Wilna Pond pier only (no boat or bank fishing).

3. During the period when we open the Wilna Tract for deer hunting, we will close it to all other uses, including fishing.

4. We prohibit fishing by any means other than by use of one or more attended poles with hook and line attached.

5. We prohibit the use of lead fishing tackle.

6. We require catch and release fishing only for largemouth bass. Anglers may take other finfish species in accordance with State regulations.

7. We prohibit the take of any reptile, amphibian, or invertebrate species for use as bait or for any other purpose.

8. We prohibit the use of live minnows as bait.

9. We prohibit use of boats propelled by gasoline motors, sail, or mechanically operated paddle wheel. We only permit car-top boats; and we prohibit trailers.

10. Prescheduled environmental education field trips will have priority over other uses, including sport fishing, on the Wilna Pond pier at all times.

[FR Doc. 05-55501 Filed 2-22-05; 8:45 am]

BILLING CODE 1505-01-D